DEPARTMENT OF LABOR

Employment and Training Administration

[TA-W-58,763]

Spartech Polycom, Washington, PA; Affirmative Determinations for Worker Adjustment Assistance and Alternative Trade Adjustment Assistance; Correction

This notice rescinds the notice of certification of eligibility to apply for Alternative Trade Adjustment Assistance applicable to TA-W-58,763, which was published in the Federal Register on April 4, 2006 (71 FR 16832-16834) in FR Document E6-4858, Billing Code 4510-30-P.

This rescinds the certification of eligibility for workers of TA-W-58,763, to apply for Alternative Trade Adjustment Assistance and confirms eligibility to apply for Worker Adjustment Assistance as identified on page 16833 in the second column, the eighth TA-W-number listed.

The Department appropriately published in the Federal Register April 4, 2006, page 16834, under the notice of Negative Determinations for Alternative Trade Adjustment Assistance, the denial of eligibility applicable to workers of TA-W-58,763. The notice appears on page 16834 in the first column, the twelfth TA-W-number listed.

Signed in Washington, DC, this 24th day of July 2006.
Erica R. Cantor,
Director, Division of Trade Adjustment Assistance.

[FR Doc. E6-12194 Filed 7-28-06; 8:45 am]

BILLING CODE 4510-30-P